DEPARTMENT OF TRANSPORTATION

Surface Transportation Board

[STB Docket No. AB-1041X]

Dakota Northern Railroad, Inc.—Abandonment Exemption—in Walsh and Pembina Counties, ND

On October 5, 2009, and amended on October 8, 2009, Dakota Northern Railroad, Inc. (DN), filed with the Surface Transportation Board (Board) a petition under 49 U.S.C. 10502 for exemption from the provisions of 49 U.S.C. 10903 to abandon a portion of its Glasston Subdivision between milepost 42.08 at the north edge of Private Crossing DOT No. 082102T approximately 2.7 miles north of Grafton and milepost 60.2 at the end of active track approximately 0.6 miles north of Glasston, a distance of 18.12 miles, in Walsh and Pembina Counties, ND. The line traverses U.S. Postal Service Zip Codes 58237 and 58276, and includes the stations of Auburn (milepost 45.9), St. Thomas (milepost 53.5), and Glasston (milepost 59.6).

DN states that it does not have information in its possession that shows that the line contains Federally granted rights-of-way. Any documentation in DN's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by January 22, 2010.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than November 12, 2009. Each trail use request must be accompanied by a $250 filing fee. See 49 CFR 1002.2(f)(27).

All filings in response to this notice must refer to STB Docket No. AB-1041X, and must be sent to: (1) Surface Transportation Board, 395 E Street, SW., Washington, DC 20423-0001, and (2) Thomas F. McFarland, Thomas F. McFarland, P.C., 208 South LaSalle Street, Suite 1890, Chicago, IL 60604-1112. Replies to DN's petition are due on or before November 12, 2009.

Persons seeking further information concerning abandonment procedures may contact the Board's Office of Public Assistance, Governmental Affairs and Compliance at (202) 245-0238 or refer to the full abandonment or discontinuance regulations at 49 CFR part 1152. Questions concerning environmental issues may be directed to the Board's Section of Environmental Analysis (SEA) at (202) 245-0305. Assistance for the hearing impaired is available through the Federal Information Relay Service (FIRS) at 1-800-877-8339.

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA generally will be within 30 days of its service.

Board decisions and notices are available on our Web site at http://www.stb.dot.gov.

Decided: October 19, 2009.
By the Board, Rachel D. Campbell, Director, Office of Proceedings.
Jeffrey Herzig,
Clearance Clerk.

[FR Doc. E9-25503 Filed 10-22-09; 8:45 am]

BILLING CODE 4915-01-P